Title 3—

The President

Proclamation 9766 of July 3, 2018

Honoring the Victims of the Tragedy in Annapolis, Maryland

By the President of the United States of America

A Proclamation

Our Nation shares the sorrow of those affected by the shooting at the Capital Gazette newspaper in Annapolis, Maryland. Americans across the country are united in calling upon God to be with the victims and to bring aid and comfort to their families and friends. As a mark of solemn respect for the victims of the terrible act of violence perpetrated on June 28, 2018, by the authority vested in me as President of the United States by the Constitution and the laws of the United States of America, I hereby order that the flag of the United States shall be flown at half-staff at the White House and upon all public buildings and grounds, at all military posts and naval stations, and on all naval vessels of the Federal Government in the District of Columbia and throughout the United States and its Territories and possessions until sunset, July 3, 2018. I also direct that the flag shall be flown at half-staff for the same length of time at all United States embassies, legations, consular offices, and other facilities abroad, including all military facilities and naval vessels and stations.

IN WITNESS WHEREOF, I have hereunto set my hand this third day of July, in the year of our Lord two thousand eighteen, and of the Independence of the United States of America the two hundred and forty-second.

[FR Doc. 2018-14744

Filed 7-6-18; 8:45 am]

Billing code 3295-F8-P